DEPARTMENT OF HEALTH AND HUMAN SERVICES

Centers for Disease Control and Prevention

Ethics Subcommittee, Advisory Committee to the Director (ACD), Centers for Disease Control and Prevention (CDC)

In accordance with section 10(a)(2) of the Federal Advisory Committee Act (Pub. L. 92-463), CDC announces the following meeting for the aforementioned subcommittee:

Name: Ethics Subcommittee, Advisory Committee to the Director (ACD), CDC.

Time and Date: 12-2 p.m., October 9, 2008.

Place: This meeting will be held by conference call. The call in number is (866) 919-3560 and enter passcode: 4168828.

Status: Open to the public. The public is welcome to participate during the public comment period which is tentatively scheduled from 1:30 p.m.-1:45 p.m.

Purpose: The Ethics Subcommittee will provide counsel to the ACD, CDC, regarding a broad range of public health ethics questions and issues arising from programs, scientists and practitioners.

Matters to be Discussed: Agenda items will include review of ethics guidance for public health emergency preparedness and response.

Contact Person for More Information: Drue Barrett, PhD, Designated Federal Official, Ethics Subcommittee, CDC, 1600 Clifton Road, NE., M/S D-50, Atlanta, Georgia 30333. Telephone 404-639-4690, e-mail: dbarrett@cdc.gov.

The Ethics Subcommittee determines that subcommittee business requires its consideration of this matter on less than 15 days notice to the public and that no earlier notice of this meeting was possible. At the Ethics Subcommittee's September 25, 2008 meeting, the subcommittee discussed this matter and determined that additional consideration is necessary prior to submitting the report to the ACD, CDC. The ACD, CDC is scheduled to meet late October.

The Director, Management Analysis and Services Office, has been delegated the authority to sign Federal Register notices pertaining to announcements of meetings and other committee management activities, for both the Centers for Disease Control and Prevention and the Agency for Toxic Substances and Disease Registry.

Dated: September 26, 2008.
Elaine L. Baker,
Director, Management Analysis and Services Office, Centers for Disease Control and Prevention.

[FR Doc. E8-23268 Filed 10-1-08; 8:45 am]

BILLING CODE 4163-18-P